OFFICE OF THE UNITED STATES TRADE REPRESENTATIVE

Notice of Conforming Amendments to Product Exclusion Extensions: China's Acts, Policies, and Practices Related to Technology Transfer, Intellectual Property, and Innovation

AGENCY: Office of the United States Trade Representative (USTR).

ACTION: Notice of amendments to recently extended COVID product exclusions.

SUMMARY: On May 17, 2023, USTR announced the extension of 77 COVID exclusions through September 30, 2023. To conform with the tariff classifications set out by Customs and Border Protection (CBP) effective November 30, 2020, and changes to statistical reporting categories set out by the U.S. International Trade Commission (USITC) effective January 27, 2022, USTR is making conforming amendments to four exclusions in the May 17, 2023 notice.

DATES: The conforming amendments in the Annex to this notice are effective June 1, 2023. CBP will issue instructions on entry guidance and implementation.

FOR FURTHER INFORMATION CONTACT: For general questions about this notice, contact Associate General Counsel Philip Butler or Assistant General Counsel Rachel Hasandras at (202) 395-5725. For specific questions on customs classification or implementation of the product exclusion identified in the Annex to this notice, contact traderemedy@cbp.dhs.gov.

SUPPLEMENTARY INFORMATION:

A. Background

On September 30, 2020, CBP issued a notice on the tariff classification of nonwoven wipes. Revocation of Eleven Ruling Letters, Modification of One Ruling Letter and Proposed Revocation of Treatment Relating to the Tariff Classification of Nonwoven Wipes, Customs Bulletin and Decisions, Vol 54, No. 38, at 58 (September 30, 2020) (September 30 notice).

Additionally, effective January 27, 2022, the USITC implemented certain changes to the Harmonized Tariff Schedule of the United States (HTSUS) to reflect Harmonized System modifications adopted by the World Customs Organization and changes to statistical reporting categories.

Subsequently, on May 17, 2023, USTR announced the extension of 77 COVID product exclusions through September 30, 2023 (May 17 notice). See 88 FR 31580 (May 17, 2023). However, four of the published exclusions did not reflect the recent changes by CBP and USITC.

B. Conforming Amendments to Exclusion Extensions

The Annex to this notice conforms one of the extended COVID exclusions announced by USTR on May 17, 2023 with CBP's September 30, 2020 notice relating to the tariff classification of nonwoven wipes, and conforms three of the extended COVID exclusions announced by USTR on May 17, 2023 with the January 27, 2022 changes to ten-digit statistical reporting categories in the HTSUS. In particular, the Annex makes conforming amendments to U.S. notes 20(uuu)(i)(1), 20(uuu)(iii)(11), 20(uuu)(iii)(12), and 20(uuu)(iii)(13) to subchapter III of chapter 99 of the HTSUS, as set out in the Annex to the notice published at 88 FR 31580 (May 17, 2023).

Annex

A. Effective with respect to goods entered for consumption, or withdrawn from warehouse for consumption, on or after 12:01 a.m. eastern daylight time on June 1, 2023 and before 11:59 p.m. eastern daylight time on September 30, 2023, note 20(uuu)(i)(1) to subchapter III of chapter 99 of the HTSUS is amended by deleting “8421.39.8090” and by inserting “8421.39.0190” in lieu thereof.

B. Effective with respect to goods entered for consumption, or withdrawn from warehouse for consumption, on or after 12:01 a.m. eastern daylight time on June 1, 2023 and before 11:59 p.m. eastern daylight time on September 30, 2023, note 20(uuu)(iii)(11) to subchapter III of chapter 99 of the HTSUS is amended by deleting “3401.30.5000” and by inserting “3401.11.5000” in lieu thereof.

C. Effective with respect to goods entered for consumption, or withdrawn from warehouse for consumption, on or after 12:01 a.m. eastern daylight time on June 1, 2023 and before 11:59 p.m. eastern daylight time on September 30, 2023, note 20(uuu)(iii)(12) to subchapter III of chapter 99 of the HTSUS is amended by deleting “3824.99.9297” and by inserting “3824.99.9397” in lieu thereof.

D. Effective with respect to goods entered for consumption, or withdrawn from warehouse for consumption, on or after 12:01 a.m. eastern daylight time on June 1, 2023 and before 11:59 p.m. eastern daylight time on September 30, 2023, note 20(uuu)(iii)(13) to subchapter III of chapter 99 of the HTSUS is amended by deleting “3824.99.9297” and by inserting “3824.99.9397” in lieu thereof.

Greta Peisch,
General Counsel, Office of the United States Trade Representative.

[FR Doc. 2023-12492 Filed 6-9-23; 8:45 am]

BILLING CODE 3390-F3-P